FEDERAL MARITIME COMMISSION

Ocean Transportation Intermediary License Applicants

Notice is hereby given that the following applicants have filed with the Federal Maritime Commission an application for license as a Non-Vessel- Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

JDI Shipping LLC, 43120 Christy Street, Fremont, CA 94538, Officers: Kevin Wen Chang, General Manager (Qualifying Individual), Thuy Tran, President.

Western Logistics Inc., 9121 Blackley Street, Temple City, CA 91780, Officers: Qi Rick Li, President (Qualifying Individual), Jie Jenny Chen, CFO.

AMP Shipping International, 3828 W. 226th, Ste. 37, Torrance, CA 90505, Amy Miwon Park, Sole Proprietor.

Non-Vessel-Operating Common Carrier and Ocean Freight Forwarder Transportation Intermediary Applicants

International First Service USA, Inc., 197 Route 18 South, Ste. 3000, East Brunswick, NJ 08816, Officer: Anita McNeil, President (Qualifying Individual).

PAS Global Logistics, Inc., 8555 Cashio Street, Ste. 305, Los Angeles, CA 90035, Officer: Seung Hoon Moon, President (Qualifying Individual).

ITL USA Inc., 1200 Route 22 East, Ste. 2000, Bridgewater, NJ 08807, Officers: Sunil Chopra, President (Qualifying Individual), Jan De Bock, Director.

Cargostream, LLC, 1223 Old Fort Road, Moncks Corner, SC 29461, Officer: Wallace M. Hester, Owner (Qualifying Individual).

CTS Global Logistics (Georgia) Inc., CTS Global Supply Chain Solutions, 5192 Southridge Parkway, Ste. 117, Atlanta, GA 30349, Officers: Christine T. Springer, Asst. Secretary (Qualifying Individual), Wanda Stone, President.

S & E Transportation LLC, 26224 Enterprise Court, Lake Forest, CA 92630, Officers: Sheila Carden, President (Qualifying Individual), Eric Carden, Vice President.

Base Ventures International dba Base, Ventures Shipping, 1405 Silver Lake Rd., NW., Ste. 201, New Brighton, MN 55112, Oluwaseyi E. Olawore, Sole Proprietor.

Prolog Services Inc. dba PSI Ocean Freight Systems, 5803 Sovereign Dr., Ste. 220, Houston, TX 77036, Officers: Stanley A. Egbo, President (Qualifying Individual), Jemima I. Egbo, Director.

Hankyu Hanshin Express (USA) Inc., 1561 Beachey Place, Carson, CA 90746, Officer: Nobyuki Harasaki, Vice President (Qualifying Individual).

Around The World Shipping, Inc., 6726 Reseda Blvd. Ste. A-10, Reseda, CA 91335, Officer: Artak Agamalian, Director (Qualifying Individual).

Ocean Freight Forwarder—Ocean Transportation Intermediary Applicants

Oliveira Marine Shipping, Inc., 1200 Acushnet Ave., New Bedford, MA 02746, Officers: Arnaldo S. Oliveira, President (Qualifying Individual), Maria O. Oliveira, Treasurer/Dir.

Madi Auto Sales and Shipping, 2911 State Road 590, Ste. 26, Clearwater, FL 33759, Officers: Nancy Dent, Vice President (Qualifying Individual), Mohammad A. Madi, Owner.

Dated: December 18, 2009.
Karen V. Gregory,
Secretary.

[FR Doc. E9-30520 Filed 12-22-09; 8:45 am]

BILLING CODE 6730-01-P